DEPARTMENT OF VETERANS AFFAIRS

[OMB Control No. 2900-NEW]

Agency Information Collection—The Department of Veterans Affairs Office of Small and Disadvantaged Business Utilization Under OMB Review

AGENCY: Office of Small and Disadvantaged Business Utilization (OSDBU), The Department of Veterans Affairs (VA).

ACTION: Notice.

SUMMARY: In compliance with the Paperwork Reduction Act (PRA) of 1995 (44 U.S.C. 3501-3521), this notice announces that OSDBU, Department of Veterans Affairs, has submitted the collection of information abstracted below to the Office of Management and Budget (OMB) for review and comment. The PRA submission describes the nature of the information collection and its expected cost and burden; it includes the actual data collection instrument.

DATES: Comments must be submitted on or before September 14, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—NEW (Post Engagement)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900—NEW (Post Engagement)”

SUPPLEMENTARY INFORMATION: Title: Post Engagement.

OMB Control Number: 2900—NEW.

Type of Review: New collection.

Abstract: The Office of Small and Disadvantaged Business Utilization (OSDBU) needs to measure the return on investment (ROI) the National Veteran Small Business Engagement provides to VA and its attendees. VA intends to gather data that will allow OSDBU to measure the efficiency of this event, to learn how to better serve its stakeholders needs, and to share this information with potential attendees.

An agency may not conduct or sponsor, and a person is not required to respond to a collection of information unless it displays a currently valid OMB control number. The Federal Register Notice with a 60-day comment period soliciting comments on this collection of information was published at 80 FRN 26640 on May 8, 2015.

Affected Public: NVSBE attendees, to include federal employees, small business owners, commercial corporations, and prime contractors.

Estimated Annual Burden: 117 hours.

Estimated Average Burden per Respondent: 7 minutes.

Frequency of Response: Every year after the NVSBE.

Estimated Number of Respondents: 1,000 per year.

By direction of the Secretary.
Kathleen M. Manwell,
Program Analyst, VA Privacy Service, Office of Privacy and Records Management, Department of Veterans Affairs.

[FR Doc. 2015-19963 Filed 8-13-15; 8:45 am]

BILLING CODE 8320-01-P